DEPARTMENT OF COMMERCE

National Oceanic and Atmospheric Administration

[RTID 0648-XF392]

Gulf Fishery Management Council; Public Meeting

AGENCY: National Marine Fisheries Service (NMFS), National Oceanic and Atmospheric Administration (NOAA), Commerce.

ACTION: Notice of hybrid meeting open to the public offering both in-person and virtual options for participation.

SUMMARY: The Gulf Fishery Management Council (Council) will hold a 3-day meeting to consider actions affecting the Gulf of America fisheries in the exclusive economic zone (EEZ).

DATES: The meeting will convene Monday, January 26 through Wednesday, January 28, 2026, 8:30 a.m.-5:30 p.m., CST daily.

ADDRESSES: The meeting will take place at the Hyatt Centric French Quarter, located at 800 Iberville Street, New Orleans, LA 70112. If you prefer to “listen in,” you may access the log-on information by visiting our website at www.gulfcouncil.org.

Council address: Gulf Fishery Management Council, 4107 W Spruce Street, Suite 200, Tampa, FL 33607; telephone: (813) 348-1630.

FOR FURTHER INFORMATION CONTACT: Dr. Carrie Simmons, Executive Director, Gulf Fishery Management Council; telephone: (813) 348-1630.

SUPPLEMENTARY INFORMATION:

Monday, January 26, 2026; 8:30 a.m.-5:30 p.m., CST

The meeting will begin with the Administrative/Budget Committee reviewing Proposed 2026 Activities and Budget, update on Final 2020-2024 Administrative Award and Inflation Reduction Act Funding and review of Advisory Panel Appointments for Red Drum, Coastal Migratory Pelagics, and Ad Hoc Advisory Panels.

The Law Enforcement Committee will review summary report from the October 2025 Law Enforcement Technical Committee. Sustainable Fisheries Committee will review Draft Workplan for Regulatory Streamlining Recommendations and next steps.

Following lunch, the Data Collection Committee will convene to discuss and review the Southeast For-Hire Integrated Electronic Reporting Document, provide an update on Commercial Electronic Logbook Program Implementation Plan, receive a presentation on updates to SERO Permit Database System and hold a discussion on Deep-water Grouper Complex Recreational Mandatory Reporting.

The Outreach and Education committee will review 2025 Communications Analytics and O&E Technical Committee Recommendations, discuss Management Area Mapping Tool, and Recreational Initiative Communications and Recommendations. The Committee will receive an update on the Anonymous Voice Mail Box communication, Council Learning Opportunities during meetings, 2026 Communications Improvement Plan, and Other Items from the O&E Technical Committee Summary.

Tuesday, January 27, 2026; 8:30 a.m.-5:30 p.m., CST

The meeting will begin with a Litigation update followed by the Reef Fish Committee review and discussion of the 2025 Reef Fish and Individual Fishing Quota (IFQ) Landings update, Final Action Items: Reef Fish Amendment 62: Modifications to Gulf Red Grouper Management Measures and Reef Fish Amendment 58A: Modifications to Other Shallow-water Grouper Management Measures.

The Committee will review Draft Options: Reef Fish Amendment 63: Modifications to Gulf Red Grouper IFQ Program, Draft—Reef Fish Amendment 59A: Permit Requirements in IFQ Programs and Ad Hoc IFQ Advisory Panel Meeting Summary report. Lastly, the Committee will receive presentations for Regional Management of Greater Amberjack for the Recreational Sector, Recreational Initiative Working Group Prioritization and Management Recommendations and the January 2026 SSC Webinar Summary.

Immediately following the Reef Fish Committee, National Marine Fisheries Service (NMFS) and Council will Host a General Question and Answer Session.

Wednesday, January 28, 2026; 8:30 a.m.-5:30 p.m., CST

The Council will convene at 8:30 a.m., CST with a Call to Order, Announcements and Introductions, Adoption of Agenda and Approval of Minutes and will receive the latest on Gulf Commission Programmatic Activities.

The Council will hold public testimony beginning at 9:15 a.m. to 12:30 p.m., CST for FINAL ACTION items: Reef Fish Amendment 62: Modifications to Gulf Red Grouper Management Measures and Reef Fish Amendment 58A: Modifications to Other Shallow-water Grouper Management Measures; and open testimony on other fishery issues or concerns. Public comment may begin earlier than 9:15 a.m. CST but will not conclude before that time. Persons wishing to give public testimony in-person must register at the registration kiosk in the meeting room. Persons wishing to give public testimony virtually must sign up on the Council website on the day of public testimony. Registration for virtual testimony closes one hour (8:15 a.m. CST) before public testimony begins.

Following lunch, the Council will receive updates from supporting agencies: South Atlantic Fishery Management Council Liaison; Louisiana Law Enforcement Efforts; NOAA Office of Law Enforcement (OLE); Gulf States Marine Fisheries Commission; U.S. Coast Guard; U.S. Fish and Wildlife Service; and Department of State.

The Council will receive Committee reports from Administrative/Budget, Law Enforcement, Sustainable Fisheries, Data Collection, Outreach and Education, and Reef Fish Committees.

Lastly, the Council will receive an update on documents transmitted for Rule Making, hold a discussion on Council Planning and Primary Activities and any Other Business items.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during this meeting. Actions will be restricted to those issues specifically. listed in this notice and any issues arising after publication of this notice that require emergency action under Section 305(c) of the Magnuson-Stevens Act, provided that the public has been notified of the Council's intent to take final action to address the emergency.

Special Accommodations

This meeting is physically accessible to people with disabilities. Requests for sign language interpretation or other auxiliary aid or accommodations should be directed to Kathy Pereira, (813) 348-1630, at least 15 days prior to the meeting date.

(Authority: 16 U.S.C. 1801 et seq.)

Dated: January 2, 2026.
Becky J. Curtis,
Acting Deputy Director, Office of Sustainable Fisheries, National Marine Fisheries Service.

[FR Doc. 2026-00027 Filed 1-5-26; 8:45 am]

BILLING CODE 3510-22-P